DEPARTMENT OF ENERGY

Federal Energy Regulatory Commission

[Docket No. CP02-36-001]

Williston Basin Interstate Pipeline Company; Notice of Proposed Changes in FERC Gas Tariff

February 14, 2002.

Take notice that on February 4, 2002, Williston Basin Interstate Pipeline Company (Williston Basin) tendered for filing as part of its FERC Gas Tariff, Second Revised Volume No. 1, the following tariff sheets to be effective on the dates indicated:

Effective January 23, 2002

Eighth Revised Sheet No. 1

1st Rev 39th Revised Sheet No. 21

Second Revised Sheet No. 150

First Revised Sheet No. 151

Third Revised Sheet. No. 227C

Sixth Revised Sheet No. 228

Second Revised Sheet No. 228A

Eleventh Revised Sheet No. 229

Fourth Revised Sheet No. 229A

Fifth Revised Sheet No. 230A

Fourth Revised Sheet No. 247

Seventh Revised Sheet No. 252

Effective February 1, 2002

Substitute Fortieth Revised Sheet No. 21

Williston Basin states that the tariff sheets comply with the Commission's January 23, 2002 order, granting Williston Basin's application to abandon the transportation service provided to Shell Western E&P, Inc. under Rate Schedule T-5 as well as Rate Schedule T-5 in its entirety. Such order required Williston Basin to file tariff sheets in compliance with Part 154 of the Commission's Regulations.

Any person desiring to be heard or to protest said filing should file a motion to intervene or a protest with the Federal Energy Regulatory Commission, 888 First Street, NE, Washington, DC 20426, in accordance with Sections 385.214 or 385.211, respectively, of the Commission's Rules and Regulations. All such motions or protests must be filed on or before February 25, 2002. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-4247 Filed 2-21-02; 8:45 am]

BILLING CODE 6717-01-P